DEPARTMENT OF COMMERCE

International Trade Administration

(A-580-810, A-583-815)

Welded ASTM A-312 Stainless Steel Pipe from South Korea and Taiwan: Notice of Final Results of Expedited (“Sunset”) Reviews of Antidumping Duty Orders

AGENCY: Import Administration, International Trade Administration, Department of Commerce.

SUMMARY: On September 1, 2005, the Department of Commerce (“the Department”) published a notice of initiation of the second sunset reviews of the antidumping duty orders on welded ASTM A-312 stainless steel pipe (“WSSP”) from South Korea (“Korea”) and Taiwan, pursuant to section 751(c) of the Tariff Act of 1930, as amended (“the Act”). On the basis of a notice of intent to participate and adequate substantive responses from the domestic interested parties and no response from respondent interested parties, the Department has conducted expedited sunset reviews of these antidumping duty orders. As a result of these sunset reviews, the Department finds that revocation of the antidumping duty orders would likely lead to continuation or recurrence of dumping at the level indicated in the “Final Results of Review” section of this notice.

EFFECTIVE DATE: January 3, 2006.

FOR INFORMATION CONTACT: Dana Mermelstein or Martha Douthit, AD/CVD Operations, Office 6, Import Administration, International Trade Administration, U.S. Department of Commerce, 14th Street and Constitution, NW., Washington, DC 20230; telephone: (202) 482-1391 or (202) 482-5050, respectively.

SUPPLEMENTARY INFORMATION:

Background

On September 1, 2005, the Department published a notice of initiation of the second sunset reviews of the antidumping duty orders on WSSP from Korea and Taiwan, pursuant to section 751(c) of the Act. See Initiation of Five-year (“Sunset”) Reviews, 70 FR 52074 (September 1, 2005).

We received notices of intent to participate, in each of the two sunset reviews, on behalf of Bristol Metals, L.P. and Marcegaglia U.S.A., Inc. (collectively, “the domestic interested parties”), within the deadline specified in section 351.218(d)(1)(i) of the Department's regulations. The domestic interested parties claimed interested party status as producers of the subject merchandise pursuant to section 771(9)(C) of the Act. The domestic interested parties were petitioners in the original investigations, or successors to petitioners, and have participated in subsequent reviews.

On September 29, 2005, the Department received complete substantive responses to the notice of initiation from the domestic interested parties within the 30-day deadline specified in section 351.218(d)(3)(i) of the Department's regulations. The Department received no substantive responses from respondent interested parties. Based on these circumstances, pursuant to sections 751(c)(3)(B) of the Act and 351.218(e)(1)(ii)(C), the Department has conducted expedited reviews of these orders.

Scope of the Orders

The merchandise subject to each of these antidumping duty orders is WSSP that meets the standards and specifications set forth by the American Society for Testing and Materials (“ASTM”) for the welded form of chromium-nickel pipe designated ASTM A-312. The merchandise covered by the scope of each order also includes austenitic welded stainless steel pipes made according to the standards of other nations which are comparable to ASTM A-312. WSSP is produced by forming stainless steel flat-rolled products into a tubular configuration and welding along the seam. WSSP is a commodity product generally used as a conduit to transmit liquids or gases. Major applications for steel pipe include, but are not limited to, digester lines, blow lines, pharmaceutical lines, petrochemical stock lines, brewery process and transport lines, general food processing lines, automotive paint lines, and paper process machines. Imports of WSSP are currently classifiable under the following Harmonized Tariff Schedule of the United States (“HTS”) subheadings: 7306.40.5005, 7306.40.5015, 7306.40.5040, 7306.40.5065, and 7306.40.5085. Although these subheadings include both pipes and tubes, the scope of these antidumping duty orders is limited to welded austenitic stainless steel pipes.

The HTS subheadings are provided for convenience and Customs purposes, our written description of the scope of these orders is dispositive.

Analysis of Comments Received

All issues raised in substantive responses by parties to these sunset reviews are addressed in the Issues and Decision Memorandum for Final Results of Expedited (“Sunset”) Reviews of the Antidumping Duty Orders on Welded ASTM A-312 Stainless Steel Pipe from South Korea and Taiwan, from Stephen J. Claeys, Deputy Assistant Secretary for Import Administration, to Joseph A. Spetrini, Acting Assistant Secretary for Import Administration (Decision Memo), dated December 30, 2005, which is hereby adopted by this notice. The issues discussed in the Decision Memo include the likelihood of continuation or recurrence of dumping and the magnitude of the margin likely to prevail were the order revoked.

Parties can find a complete discussion of all issues raised in these reviews and the corresponding recommendations in this public memorandum which is on file in B-099, the Central Records Unit, of the main Commerce building. In addition, a complete version of the Decision Memo can be accessed directly on the Web at http://ia.doc.gov/frn. The paper copy and electronic version of the Decision Memo are identical in content.

Final Results of Reviews

We determine that revocation of the antidumping duty orders would be likely to lead to continuation or recurrence of dumping at the following weighted-average margins:

Korea
Manufacturer/Exporter | Weighted Average Margins (percent)
Pusan Steel Pipe Co., Ltd. (now SeAH Steel Corporation) | 2.67
Sammi Metal Products Co., Ltd. | 7.92
All Others | 7.00

Taiwan
Manufacturer/Exporter | Weighted Average Margins (percent)
Jaung Yuann Enterprise Co., Ltd. | 31.90
Yeun Chyang Industrial Co., Ltd. | 31.90
All Others | 19.84

This notice also serves as the only reminder to parties subject to administrative protective orders (APO) of their responsibility concerning the return or destruction of proprietary information disclosed under APO in accordance with section 351.305 of the Department's regulations. Timely notification of the return or destruction of APO materials or conversion to judicial protective order is hereby requested. Failure to comply with the regulations and terms of an APO is a violation which is subject to sanction.

We are issuing and publishing this determination and notice in accordance with sections 751(c), 752, and 777(i) of the Act.

Dated: December 23, 2005.
Stephen J. Claeys,
Acting Assistant Secretary for Import Administration.

[FR Doc. E5-8209 Filed 12-30-05; 8:45 am]

BILLING CODE 3510-DS-S